FEDERAL COMMUNICATIONS COMMISSION

47 CFR Part 54

[WC Docket Nos. 21-341; Report No. 3208; FR ID 198690]

Petitions for Reconsideration of Action in Rulemaking Proceeding

AGENCY: Federal Communications Commission.

ACTION: Petition for Reconsideration.

SUMMARY: Petition for Reconsideration (Petitions) have been filed in the Commission's proceeding Thomas C. Power, on behalf of CTIA.

DATES: Oppositions to the Petitions must be filed on or before February 13, 2024. Replies to oppositions must be filed on or before February 8, 2024.

ADDRESSES: Federal Communications Commission, 45 L Street NE, Washington, DC 20554.

FOR FURTHER INFORMATION CONTACT: For additional information on this proceeding, contact Stephen Wang of the Wireline Competition Bureau, Telecommunications Access Policy Division, at (202) 418-7400 or Stephen.Wang@fcc.gov.

SUPPLEMENTARY INFORMATION: This is a summary of the Commission's document, Report No. 3208, released January 22, 2024. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Connect America Fund: A National Broadband Plan for Our Future High-Cost Universal Service Support (WC Docket Nos. 10-90, 14-58, 09-197, and 16-271; RM-11868).

Number of Petitions Filed: 1.

Federal Communications Commission.
Marlene Dortch,
Secretary, Office of the Secretary.

[FR Doc. 2024-01632 Filed 1-26-24; 8:45 am]

BILLING CODE 6712-01-P